DEPARTMENT OF ENERGY

Federal Energy Regulatory Commission

[Docket No. RP03-624-000]

Dominion Transmission, Inc.; Notice of Annual EPCA Filing

October 2, 2003.

Take notice that on September 29, 2003, Dominion Transmission Inc. (DTI) tendered for filing as part of its FERC Gas Tariff, Third Revised Volume No. 1, the following revised tariff sheets, with an effective date of November 1, 2003:

Seventeenth Revised Sheet No. 31

Twenty First Revised Sheet No. 32

Eleventh Revised Sheet No. 34

Fourteenth Revised Sheet No. 35

Seventh Revised Sheet No. 39

DTI states that the purpose of its filing is comply with the Electric Power Cost Adjustment provision of Section 17 of its the General Terms and Conditions of its FERC Gas Tariff.

DTI states that copies of the filing have been sent to DTI's customers and interested stated commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Magalie R. Salas,
Secretary.

[FR Doc. E3-00026 Filed 10-8-03; 8:45 am]

BILLING CODE 6717-01-P